DEPARTMENT OF TRANSPORTATION

Federal Aviation Administration

14 CFR Part 39

[Docket No. 2002-NM-323-AD; Amendment 39-13657; AD 2004-11-11]

RIN 2120-AA64

Airworthiness Directives; Boeing Model 737-600, 737-700, 737-700C, 737-800, and 737-900 Series Airplanes

AGENCY: Federal Aviation Administration, DOT.

ACTION: Final rule.

SUMMARY: This amendment adopts a new airworthiness directive (AD), applicable to certain Boeing Model 737-600, 737-700, 737-700C, 737-800, and 737-900 series airplanes, that requires, for certain airplanes, installation of screws and spacers to secure the wire bundles for the aft fuel boost pumps of the main fuel tanks. For certain other airplanes, this amendment requires a general visual inspection of the wire bundles to determine if the wire bundles are clamped, and/or if they are damaged; further investigation, as applicable; repair of any damage; and installation of applicable brackets, clamps, and spacers to secure the wire bundles. This action is necessary to prevent electrical arcing in a fuel leakage zone, which could result in an uncontrolled fire. This action is intended to address the identified unsafe condition.

DATES: Effective July 13, 2004.

The incorporation by reference of a certain publication listed in the regulations is approved by the Director of the Federal Register as of July 13, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Doug Pegors, Aerospace Engineer, Propulsion Branch, ANM-140S, FAA, Seattle Aircraft Certification Office, 1601 Lind Avenue, SW., Renton, Washington 98055-4056; telephone (425) 917-6504; fax (425) 917-6590.

SUPPLEMENTARY INFORMATION: A proposal to amend part 39 of the Federal Aviation Regulations (14 CFR part 39) to include an airworthiness directive (AD) that is applicable to certain Boeing Model 737-600, 737-700, 737-700C, 737-800, and 737-900 series airplanes was published in the Federal Register on March 5, 2004 (69 FR 10357). That action proposed to require for certain airplanes, installation of screws and spacers to secure the wire bundles for the aft fuel boost pumps of the main fuel tanks. For certain other airplanes, that action proposed to require a general visual inspection of the wire bundles to determine if the wire bundles are clamped, and/or if they are damaged; further investigation, as applicable; repair of any damage; and installation of applicable brackets, clamps, and spacers to secure the wire bundles.

Comments

Interested persons have been afforded an opportunity to participate in the making of this amendment. No comments were submitted in response to the proposal or the FAA's determination of the cost to the public.

Conclusion

We have determined that air safety and the public interest require the adoption of the rule as proposed.

Cost Impact

There are approximately 1,284 airplanes of the affected design in the worldwide fleet. The FAA estimates that 527 airplanes of U.S. registry will be affected by this AD. The work hours and required parts per airplane vary according to the configuration group to which the affected airplane belongs. The average labor rate is $65 per work hour.

The following table shows the estimated cost impact for airplanes affected by this AD:

Table—Cost Impact
Airplane configuration group | Work hours per airplace | Labor cost per airplane | Parts cost per airplane | Total cost per airplane
1, 2, 3 and 4 on which the actions described in the initial Service Bulletin have not been accomplished | 3 | $195 | $292 | $485
1, 2, 3 and 4 on which the actions described in the initial Service Bulletin have been accomplished; 5, 6, and 7 | 2 | 130 | 3 | 133

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-11-11 Boeing: Amendment 39-13657. Docket 2002-NM-323-AD.

Applicability: Model 737-600, 737-700, 737-700C, 737-800, and 737-900 series airplanes, as listed in Boeing Alert Service Bulletin 737-28A1148, Revision 2, dated December 18, 2003; certificated in any category.

Compliance: Required as indicated, unless accomplished previously.

To prevent electrical arcing in a fuel leakage zone, which could result in an uncontrolled fire, accomplish the following:

Service Bulletin References

(a) The term “service bulletin,” as used in this AD, means the Accomplishment Instructions of Boeing Alert Service Bulletin 737-28A1148, Revision 2, dated December 18, 2003.

Inspection, Installation, and Corrective Actions

(b) For airplanes listed in the service bulletin as Groups 1, 2, 3, and 4 on which Boeing Alert Service Bulletin 737-28A1148, dated September 14, 2000, has been accomplished; and for airplanes listed in the service bulletin as Groups 5, 6 and 7: Within six months after the effective date of this AD, install screws and spacers to secure the applicable wire bundles for the aft fuel boost pumps of the main fuel tanks. Perform all actions per the service bulletin.

(c) For airplanes listed in the service bulletin as Groups 1 and 2 on which Boeing Alert Service Bulletin 737-28A1148, dated September 14, 2000, has not been accomplished: Within six months after the effective date of this AD, perform a general visual inspection of the applicable wire bundles for the aft fuel boost pumps of the main fuel tanks for chafing or other damage. Perform any applicable corrective action; and install a new bracket, clamp, and spacers to secure the wire bundles; prior to further flight. Perform all actions per the service bulletin.

(d) For airplanes listed in the service bulletin as Groups 3 and 4 on which Boeing Alert Service Bulletin 737-28A1148, dated September 14, 2000, has not been accomplished: Within six months after the effective date of this AD, perform a general visual inspection of the applicable wire bundles for the aft fuel boost pumps of the main fuel tanks to determine if the wire bundle is secured with a clamp; and perform any related investigative action, and any applicable corrective actions, prior to further flight. Perform all actions per the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Actions Accomplished Per Previous Issue of the Service Bulletin

(e) Actions accomplished before the effective date of this AD per Boeing Alert Service Bulletin 737-28A1148, Revision 1, dated August 22, 2002, are considered acceptable for compliance with the corresponding action specified in this AD.

Alternative Methods of Compliance

(f) In accordance with 14 CFR 39.19, the Manager, Seattle Aircraft Certification Office, FAA, is authorized to approve alternative methods of compliance (AMOCs) for this AD.

Incorporation by Reference

(g) Unless otherwise specified in this AD, the actions shall be done in accordance with Boeing Alert Service Bulletin 737-28A1148, Revision 2, dated December 18, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(h) This amendment becomes effective on July 13, 2004.

Issued in Renton, Washington, on May 26, 2004.
Kevin M. Mullin,
Acting Manager, Transport Airplane Directorate, Aircraft Certification Service.

[FR Doc. 04-12571 Filed 6-7-04; 8:45 am]

BILLING CODE 4910-13-P